DEPARTMENT OF COMMERCE

National Oceanic and Atmospheric Administration

[RTID 0648-XF233]

Fisheries of the South Atlantic; South Atlantic Fishery Management Council—Public Meetings

AGENCY: National Marine Fisheries Service (NMFS), National Oceanic and Atmospheric Administration (NOAA), Commerce.

ACTION: Meeting of the South Atlantic Fishery Management Council's (Council) Citizen Science Operations Advisory Panel via webinar.

SUMMARY: The Council will hold a meeting of its Citizen Science Operations Advisory Panel via webinar October 16, 2025.

DATES: The Citizen Science Operations Advisory Panel meeting will be held via webinar on Thursday, October 16, 2025, from 9 a.m. until 4 p.m.

ADDRESSES:

Meeting address: The meeting will be held via webinar and is open to the public. Webinar registration information and additional meeting details are available from the Council's website at: https://safmc.net/events/october-2025-citizen-science-operations-ap-meeting/. There will be an opportunity for public comment at the beginning of the meeting.

Council address: South Atlantic Fishery Management Council, 4055 Faber Place Drive, Suite 201, N Charleston, SC 29405.

FOR FURTHER INFORMATION CONTACT: Julia Byrd, Citizen Science Program Manager, SAFMC; phone 843/302-8439 or toll free 866/SAFMC-10; FAX 843/769-4520; email: julia.byrd@safmc.net.

SUPPLEMENTARY INFORMATION: The Citizen Science Operations Advisory Panel serves as advisors to the Council's Citizen Science Program. Advisory panel members include representatives from the Council's Citizen Science Advisory Panel Pool, NOAA Fisheries' Southeast Regional Office, NOAA Fisheries' Southeast Fisheries Science Center, and the Council's Science and Statistical Committee. Their responsibilities include developing programmatic recommendations, reviewing policies, providing program direction/multi-partner support, identifying citizen science research needs, and providing general advice.

Agenda items for this meeting include: discussion of the Citizen Science Program metrics and ways to measure impact; review of the Citizen Science research priorities and provide recommendations for updates; discussion on Program growth; a Citizen Science Program and Project update; and other business.

Special Accommodations

These meetings are physically accessible to people with disabilities. Requests for auxiliary aids should be directed to the council office (see ADDRESSES) 5 days prior to the meeting.

Note: The times and sequence specified in this agenda are subject to change.

Authority: 16 U.S.C. 1801 et seq.

Dated: September 26, 2025.
Rey Israel Marquez,
Acting Deputy Director, Office of Sustainable Fisheries, National Marine Fisheries Service.

[FR Doc. 2025-19147 Filed 9-30-25; 8:45 am]

BILLING CODE 3510-22-P